DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 15, 2006, page 13447.

DATES: Please submit comments by October 16, 2006.

FOR FURTHER INFORMATION CONTACT: Carla Mauney at Carla.Mauney@faa.gov.

SUPPLEMENTARY INFORMATION:

Federal Aviation Administration (FAA)

Title: Passenger Facility Charge (PFC) Application.

Type of Request: Revision of a currently approved collection.

OMB Control Number: 2120-0557.

Form(s): FAA Form 5500-1.

Affected Public: an estimated 450 Respondents.

Abstract: 49 U.S.C. 40117 authorizes airports to impose passenger facility charges (PFC). This program requires public agencies and certain members of the aviation industry to prepare and submit applications and reports to the FAA. This program provides additional funding for airport development which is needed now and in the future.

Estimated Annual Burden Hours: An estimated 24,025 hours annually.

Comments: Interested persons are invited to submit written comments on the proposed information collection to the Office of Information and REgulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on September 6, 2006.
Carla Mauney,
FAA Information Collection Clearance Officer, Information Systems and Technology Services Staff, ABA-20.

[FR Doc. 06-7635 Filed 9-13-06; 8:45 am]

BILLING CODE 4910-13-M